DEPARTMENT OF LABOR

Employment and Training Administration

[TA-W-41,015 and TA-W-41,015A]

E.J. Footwear LLC, Franklin, Tennessee, and E.J. Footwear LLC, Endicott, New York; Notice of Termination of Certification

Pursuant to section 223 of the Trade Act of 1974, on June 4, 2002, the Department of Labor issued a Certification of Eligibility to Apply for Worker Adjustment Assistance applicable to workers of the subject firm. The notice was published in the Federal Register on June 21, 2002 (67 FR 42285).

The State agency requested that the Department review the certification for workers of the subject firm engaged in the production of work boots. Information shows that the E.J. Footwear LLC certification, TA-W-40,899, was amended on July 15, 2002 to include workers at the Franklin, Tennessee and Vestal (Endicott), New York locations of the subject firm.

Consequently, continuance of this certification would serve no purpose and the certification is terminated.

Signed in Washington, DC, this 6th day of August, 2002.
Linda G. Poole,
Certifying Officer, Division of Trade Adjustment Assistance.

[FR Doc. 02-20615 Filed 8-13-02; 8:45 am]

BILLING CODE 4510-30-P